DEPARTMENT OF COMMERCE

National Oceanic and Atmospheric Administration

[I.D. 05110A]

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council's (MAFMC) Atlantic Mackerel, Squid, and Butterfish Monitoring Committee will hold a public meeting.

DATES: The meeting will be held Thursday, June 2, 2005, at 9 a.m.

ADDRESSES: This meeting will be held at the Mid-Atlantic Council Office, Room 2115 Federal Building, 300 South New Street, Dover, DE 19904 telephone: (302) 674-2331.

Council address: Mid-Atlantic Fishery Management Council, 300 S. New Street, Room 2115, Dover, DE 19904.

FOR FURTHER INFORMATION CONTACT: Daniel T. Furlong, Executive Director, Mid-Atlantic Fishery Management Council; telephone 302-674-2331, ext. 19.

SUPPLEMENTARY INFORMATION: The purpose of this meeting is to develop quota and management measure recommendations for the Atlantic mackerel, squid and butterfish fisheries for the 2006 fishing year. Committee action will be restricted to those issues specifically listed in this notice.

Special Accommodations

This meeting is physically accessible to people with disabilities. Requests for sign language interpretation or other auxiliary aids should be directed to Kathy Collins (302-674-2331 ext: 10) at the Mid-Atlantic Council Office at least 5 days prior to the meeting date.

Dated: May 11, 2005.
Emily Menashes,
Acting Director, Office of Sustainable Fisheries, National Marine Fisheries Service.

[FR Doc. 05-2413 Filed 5-13-05; 8:45 am]

BILLING CODE 3510-22-S